DEPARTMENT OF HEALTH AND HUMAN SERVICES

Office of Inspector General

Privacy Act of 1974; Proposed Revisions to the OIG's Privacy Act Systems of Records

AGENCY: Office of Inspector General (OIG), HHS.

ACTION: Notice of proposed revisions to existing Privacy Act systems of records.

SUMMARY: The Office of Inspector General proposes to revise both the existing system of records, entitled “Criminal Investigative Files” (09-90-0003), last updated on November 2, 1990 (55 FR 46248), and the existing system of records, entitled “Civil and Administrative Investigative Files” (09-90-0100), last updated on September 30, 1982 (47 FR 43190). These systems of records, maintained by the OIG, are being revised to comply with requirements established by the Homeland Security Act of 2002 (Pub. L. 107-296; November 25, 2002). We intend to revise these systems by adding a new routine use to allow disclosure of information to authorized officials within the President's Council on Integrity and Efficiency (PCIE), who are charged with the responsibility for conducting qualitative assessment reviews of investigative operations.

DATES: Effective Date: These revisions will become effective, without further notice, on August 4, 2003, unless comments received on or before that date result in a contrary determination.

Comment date: Comments on these revisions will be considered if we receive them at the address provided below no later than 5 p.m. on July 21, 2003. Interested persons may submit written comments on this proposal to the address indicated below.

ADDRESSES: Please mail or deliver written comments to the following address: Office of Inspector General, Office of Counsel to the Inspector General, 330 Independence Avenue, SW., Washington, DC 20201, Attention: OIG-0503-N.

We do not accept comments by facsimile (FAX) transmission. In commenting, please refer to file code OIG-0503-N. Comments received timely will be available for public inspection as they are received, generally beginning approximately 2 weeks after publication of a document, in Room 5541 of the Office of Inspector General at 330 Independence Avenue, SW., Washington, DC, on Monday through Friday of each week from 8 a.m. to 4:30 p.m.

FOR FURTHER INFORMATION CONTACT: Joel Schaer, Office of Counsel to the Inspector General, (202) 619-0335.

SUPPLEMENTARY INFORMATION: This notice is in accordance with the Privacy Act requirement that agencies publish their amended systems of records in the Federal Register when there is a revision, change, or addition. The OIG has reviewed its systems of records and has determined that both its Investigation Case Files record system and its Civil and Administrative Investigative Files must be revised to add a routine use in order to comply with the Homeland Security Act of 2002. Specifically, section 812(7) of the Act states that: “[T]o ensure the proper exercise of the law enforcement powers authorized by the subsection, the Office of Inspector General described in paragraph (3) shall, not later than 180 days after the enactment of this subsection, collectively enter into a memorandum of understanding to establish an external review process for ensuring that adequate internal safeguards and management procedures continue to exist with each Office and within any Office that later receives an authorization under paragraph (2). The review process shall be established in consultation with the Attorney General, who shall be provided with a copy of the memorandum of understanding that establishes the review process. Under the review process, the exercise of the law enforcement powers by each Office of Inspector General shall be reviewed periodically by another Office of Inspector General or by a committee of Inspectors General. The results of each review shall be communicated in writing to the applicable Inspector General and to the Attorney General.”

Specifically, we are proposing to amend the section for “Routine uses of records maintained in the system, including categories of users and purposes of such uses” in both systems of records (1) by adding a new paragraph n. to the current Criminal Investigative Files; and (2) by adding a new paragraph (12) to the current Civil and Administrative Investigative Files. The additional routine use paragraphs will allow the disclosure of information to authorized officials within the PCIE, the Department of Justice, and the Federal Bureau of Investigation, as necessary, for the purpose of conducting qualitative assessment reviews of the OIG's investigative operations to ensure that adequate internal safeguards and management procedures are maintained.

Accordingly, both systems of records would be amended as set forth below:

1. The Criminal Investigative Files of the Inspector General (09-90-0003) would be amended by adding a new paragraph n. under the subheading for “Routine Uses of Records Maintained in the System, Including Categories of Users and Purpose of Such Uses” to read as follows:

ROUTINE USES OF RECORDS MAINTAINED IN THE SYSTEM, INCLUDING CATEGORIES OF USERS AND PURPOSE OF SUCH USES:

* * * * *

n. A record may be disclosed to any official charged with the responsibility to conduct qualitative assessment reviews of internal safeguards and management procedures employed in investigative operations. This disclosure category includes members of the President's Council on Integrity and Efficiency and officials and administrative staff within their investigative chain of command, as well as authorized officials of the Department of Justice and the Federal Bureau of Investigation.

2. The Civil and Administrative Investigative Files of the Inspector General (09-90-0100) would be amended by adding a new paragraph 12. under the subheading for “Routine Uses of Records Maintained in the System, Including Categories of Users and Purpose of Such Uses” to read as follows:

ROUTINE USES OF RECORDS MAINTAINED IN THE SYSTEM, INCLUDING CATEGORIES OF USERS AND PURPOSE OF SUCH USES:

These records may be used as follows:

* * * * *

(12) A record may be disclosed to any official charged with the responsibility to conduct qualitative assessment reviews of internal safeguards and management procedures employed in investigative operations. This disclosure category includes members of the President's Council on Integrity and Efficiency and officials and administrative staff within their investigative chain of command, as well as authorized officials of the Department of Justice and the Federal Bureau of Investigation.

Dated: June 9, 2003.
Dara Corrigan,
Acting Principal Deputy Inspector General.

[FR Doc. 03-15511 Filed 6-18-03; 8:45 am]

BILLING CODE 4152-01-P